DEPARTMENT OF TRANSPORTATION

Federal Highway Administration

[Docket No. FHWA-2000-7315]

Notice of Request for Renewal of Five Currently Approved Information Collections

AGENCY: Department of Transportation, Federal Highway Administration (FHWA).

ACTION: Notice and request for public comments.

SUMMARY: In accordance with the requirements in section 3506(c)(2)(A) of the Paperwork Reduction Act of 1995, this notice announces the intention of the FHWA to request the Office of Management and Budget (OMB) to renew its clearances for the five currently approved FHWA collections of information identified below under Supplementary Information.

DATES: Comments must be submitted on or before July 5, 2000.

ADDRESSES: All signed, written comments should refer to the docket number that appears in the heading of this document and must be submitted to the Docket Clerk, U.S. DOT Dockets, Room PL-401, 400 Seventh Street, SW., Washington DC 20590-0001. Commenters should refer to the OMB control number to specify the information collection they are commenting on. All comments received will be available for examination at the above address between 10 a.m. to 5 p.m., et., Monday through Friday, except Federal holidays. Those desiring notification of receipt of comments must include a self-addressed, stamped envelope or postcard.

Public Comments Invited

Interested parties are invited to send comments regarding any aspect of these five information collections, including, but not limited to: (1) The necessity and utility of the information collection for the proper performance of the functions of the FHWA; (2) the accuracy of the estimated burdens; (3) ways to enhance the quality, utility, and clarity of the collected information; and (4) ways to minimize the collection burden without reducing the quality of the collected information. Comments submitted in response to this notice will be summarized and/or included in the requests for OMB's clearance of the following five collections of information.

SUPPLEMENTARY INFORMATION: (1) Title: Federal-aid Highway Construction Equal Employment Opportunity.

OMB Control Number: 2125-0019 (Expiration Date: December 31, 2000).

Affected Public: State highway agencies.

Abstract: Title 23, part 140(a), requires the FHWA to ensure equal opportunity regarding contractors' employment practices on Federal-aid highway projects. To carry out this requirement the contractors must submit to the State highway agencies an annual report providing employment work force data, which includes the number of minorities, women, and non-minorities in each construction craft. This information is reported on Form PR-1391, Federal-aid Highway Construction Contractors Summary of Employment Data. The statute also requires the State highway agencies to submit a report to the FHWA summarizing the data entered on the PR-1391 forms. This summary data is provided on Form PR-1392, Federal-aid Highway Construction Contractors Summary of Employment Data. The FHWA uses this data to identify patterns and trends of employment in the highway construction industry, and to determine the adequacy and impacts of the FHWA's contract compliance and on-the-job training programs.

Estimated Annual Burden: The FHWA estimates the total annual burden hours imposed on the public by this collection is 6,580 hours; i.e., 2,080 hours is required by the 52 State highway agencies to complete and submit the Form PR-1392, and an additional 4,500 hours is required for 4,500 Federal-Aid contractors to complete and submit the Form PR-1391.

Number of Respondents: 52.

For Further Information Contact: Ms. Carmen Sevier, (202) 366-1595, Department of Transportation, Federal Highway Administration, Civil Rights Service Business Unit, 400 Seventh Street, SW., Washington, DC 20590. Office hours are from 7:45 a.m. to 4:15 p.m., e.t., Monday through Friday, except Federal holidays.

(2) Title: Statement of Materials and Labor Used by Contractor on Highway Construction Involving Federal Funds.

OMB Control Number: 2125-0033 (Expiration Date: November 30, 2000).

Affected Public: State highway agencies and Federal-aid highway contractors.

Abstract: The State highway agencies and contractors who work on highway projects are required to submit data regarding the usage of materials and labor in highway construction (23 CFR 635.126). This data is submitted to the FHWA on Form FHWA-47, Statement of Materials and Labor Used by Contractors on Highway Construction Involving Federal Funds. Title 29 U.S.C. 2 authorizes the Department of Labor (DOL) to collect the labor-related information using its own forces or by getting the information from other Federal agencies. An informal agreement has been reached for the FHWA to collect the desired data for DOL. The data is used by the FHWA for estimating current material usage and cost distribution on Federal-aid highway construction contracts to aid in planning for future requirements based on anticipated program levels. The information is also used by the Department of Labor in its studies on the highway construction industry's labor and materials requirements, and by the industry, including the materials suppliers. This information is made available to other Federal, State and local agencies, universities, businesses, and industry for their own uses.

Estimated Annual Burden: The FHWA estimates that the total annual burden imposed on the public by this collection is 7,475 hours; i.e., approximately 650 State highway agencies and Federal-Aid highway contractors complete and submit an average of 2.3 reports on Form FHWA-47 yearly; and the estimated time to complete each report is 5 hours.

Number of Respondents: 650.

For Further Information Contact: Ms. Claretta Duren, (202) 366-4636, Department of Transportation, Federal Highway Administration, Infrastructure Core Business Unit, 400 Seventh Street, SW., Washington, DC 20590. Office hours are from 7:45 a.m. to 4:15 p.m., e.t., Monday through Friday, except Federal holidays.

(3) Title: Developing and Recording Costs for Utility Adjustments.

OMB Control Number: 2125-0519 (Expiration Date: November 30, 2000).

Affected Public: State highway agencies and public utilities.

Abstract: Under 23 U.S.C. 123, the FHWA reimburses the State highway agencies when they have paid the costs of utility facilities' relocations that are required by the construction of Federal-aid highway projects. The FHWA requires the utilities to document the costs for adjusting their facilities. The utilities must have a system for recording labor, materials, supplies and equipment costs incurred when undertaking adjustments to accommodate the highway projects. This record of costs forms the basis for payment by the State highway agency to the utility and in turn the FHWA reimburses the State for its payment to the utility. The utilities are required to maintain these records of costs for three years after final payment is received.

Estimated Annual Burden: The FHWA estimates that this collection imposes a total annual burden on the public of 180,000 hours; i.e., approximately 9,000 reimbursable utility adjustments are made yearly by approximately 3,000 utility firms. The average amount of time required by these firms to calculate the adjustment costs and maintain the required records is 20 hours.

Number of Respondents: 3,000.

For Further Information Contact: Mr. Paul Scott, (202) 366-4104, Department of Transportation, Federal Highway Administration, Infrastructure Core Business Unit, 400 Seventh Street, SW., Washington, DC 20590. Office hours are from 7:45 a.m. to 4:15 p.m., e.t., Monday through Friday, except Federal holidays.

(4) Title: Utility Use and Occupancy Agreements.

OMB Control Number: 2125-0522 (Expiration Date: October 31, 2000).

Affected Public: State/local highway authorities and public utilities.

Abstract: Under 23 U.S.C. 116, the FHWA requires the State and/or local highway authorities to maintain the highway rights-of-way including the control of its use by the utilities. In controlling the utilities' use of the highway rights-of-way the State/local highway authorities are required to document the terms under which the utility is to cross or otherwise occupy the highway rights-of-way. This documentation, consisting of a use and occupancy agreement (permit), must be in writing and must be maintained in the State/local highway authority's files for a three-year retention period.

Estimated Annual Burden: The FHWA estimates that the total annual burden imposed on the public by this collection is 552,000 hours; i.e., nearly 4,600 State/local highway authorities are each involved in an average of 15 use and occupancy agreements per year, and the estimated amount of time required by these entities to process the permits is 8 hours.

Number of Respondents: 4,600.

For Further Information Contact: Mr. Paul Scott, (202) 366-4104, Department of Transportation, Federal Highway Administration, Infrastructure Core Business Unit, 400 Seventh Street, SW., Washington, DC 20590. Office hours are from 7:45 a.m. to 4:15 p.m., e.t., Monday through Friday, except Federal holidays.

(5) Title: Developing and Recording Costs for Railroad Adjustments.

OMB Control Number: 2125-0521 (Expiration Date: October 31, 2000).

Affected Public: State highway agencies and railroad companies.

Abstract: Under 23 U.S.C. 130, the FHWA reimburses the State highway agencies when they have paid for the cost of projects that (1) eliminate hazards at railroad/highway crossings, or (2) adjust railroad facilities to accommodate the construction of highway projects. The FHWA requires the railroad companies to document their costs incurred for adjusting their facilities. The railroad companies must have a system for recording labor, materials, supplies, and equipment costs incurred when undertaking the necessary railroad work. This record of costs forms the basis for payment by the State highway agency to the railroad company, and in turn FHWA reimburses the State for its payment to the railroad company.

Estimated Annual Burden: The FHWA estimates that the total annual burden imposed on the public by this collection is 18,400 hours; i.e., nearly 115 railroad companies are involved in an average of 10 railroad/highway projects per year, and the average number of hours required to calculate the railroad adjustment costs and maintain the required records is 16 hours.

Number of Respondents: 115.

For Further Information Contact: Mr. Robert Winans, (202) 366-4656, Department of Transportation, Federal Highway Administration, Safety Core Business Unit, 400 Seventh Street, SW., Washington, DC 20590. Office hours are from 7:45 a.m. to 4:15 p.m., e.t., Monday through Friday, except Federal holidays.

Authority: 23 U.S.C. 140(a); 23 CFR 635.126; 29 U.S.C. 2; 23 U.S.C. 123; 23 U.S.C. 116; 23 U.S C. 130; 49 CFR 1.48.

Issued on: May 2, 2000.
James R. Kabel,
Chief, Management Programs and Analysis Division.

[FR Doc. 00-11310 Filed 5-4-00; 8:45 am]

BILLING CODE 4910-22-P